DEPARTMENT OF AGRICULTURE

Natural Resources Conservation Service

East Texas to Mississippi Expansion Project; Gulf South Pipeline Company, LP; Federal Energy Regulatory Commission, Docket Nos. CP06-446-000, PF06-17-000, PF-06-23-000, FERC EIS 0206D

AGENCY: Natural Resources Conservation Service.

ACTION: Notice of availability of the record of decision.

SUMMARY: Pursuant to Section 102(2)(C) of the National Environmental Policy Act of 1969; the Council on Environmental Quality Guidelines (40 CFR Part 1500); and the Natural Resources Conservation Service Guidelines (7 CFR Part 650); the Natural Resources Conservation Service, U.S. Department of Agriculture, has decided to subordinate its rights, acquired under the Wetland Reserve Program (WRP), to allow the Gulf South Pipeline Company, LP (Gulf South) to cross NRCS held conservations easements associated with the East Texas to Mississippi Expansion Project (Project) in Madison Parish, Red River Parish, Richland Parish and Ouachita Parish, LA.

On September 1, 2006, Gulf South filed, in Docket No. CP04-446-000, an application under section 7(c) of the Natural Gas Act (NGA) for authorization to construct and operate its proposed project. The proposed project consists of 241.9 miles of pipeline, and 110,604 horsepower (hp) of compression that will connect Gulf South's existing facilities in DeSoto Parish, Louisiana to Gulf South's pipeline in Simpson County, Mississippi.

The Federal Energy Regulatory Commission (FERC) has prepared a final environmental impact statement (EIS) to fulfill requirements of the National Environmental Policy Act (NEPA). The purpose of this document was to make public the analysis of the environmental impacts that would likely result from the construction and operation of the proposed Project. The NRCS participated as a cooperating agency in the preparation of the EIS.

The project will affect approximately 16 NRCS held Wetlands Reserve Program (WRP) easements by creating a 60 ft. permanent right of way (within a 100 ft. construction right of way) that extends for approximately 241.9 miles of which 12.5 miles is over lands encumbered under WRP easements located in Madison, Red River, Richland and Ouachita Parishes, Louisiana. Of the 34,584 acres encumbered by WRP easements in Madison Parish, Louisiana 76.43 acres will be affected; Of the 513 acres encumbered by WRP easements in Red River Parish, Louisiana 4.61 acres will be affected; of the 7,285 acres encumbered by WRP easements in Richland Parish, Louisiana 6.36 acres will be affected; of the 3,716 acres encumbered by WRP easements in Ouachita Parish, Louisiana 1.82 acres will be affected.

FOR FURTHER INFORMATION CONTACT: Dorothy S. Harris, Acting State Conservationist, Natural Resources Conservation Service, 3737 Government Street, Alexandria, Louisiana 71302; telephone (318) 473-7751.

A limited number of copies of the ROD are available to fill single copy requests at the above address. Basic data evaluated for the ROD are on file and may be reviewed by contacting Dorothy S. Harris.

Dated: July 5, 2007.
Dorothy S. Harris,
Acting State Conservationist.

[FR Doc. E7-13644 Filed 7-12-07; 8:45 am]

BILLING CODE 3410-16-P